DEPARTMENT OF TRANSPORTATION

Federal Aviation Administration

14 CFR Part 71

[Docket No. FAA-2017-0219; Airspace Docket No. 17-AWP-5]

Amendment of Class E Airspace; Lemoore NAS, CA

AGENCY: Federal Aviation Administration (FAA), DOT.

ACTION: Final rule, technical amendment, correction.

SUMMARY: This action corrects a final rule, technical amendment published in Federal Register on September 21, 2017, that removes the Notice to Airmen (NOTAM) part-time status information contained in the legal description of Class E airspace designated as an extension at Lemoore NAS (Reeves Field), Lemoore, CA. The airspace description contained the following wording in error: “. . . within a 5.2-mile radius of Lemoore NAS (Reeves Field), and . . . .” This wording is removed. This action does not affect the charted boundaries or operating requirements of the airspace.

DATES: Effective 0901 UTC, November 1, 2017. The Director of the Federal Register approves this incorporation by reference action under title 1, Code of Federal Regulations, part 51, subject to the annual revision of FAA Order 7400.11 and publication of conforming amendments.

FOR FURTHER INFORMATION CONTACT: Robert LaPlante, Federal Aviation Administration, Operations Support Group, Western Service Center, 1601 Lind Avenue SW., Renton, WA 98057; telephone (425) 203-4566.

SUPPLEMENTARY INFORMATION:

History

The FAA published a final rule, technical amendment in the Federal Register (82 FR 44060, September 21, 2017) Docket No. FAA-2017-0219, amending Class E Airspace designated as an extension, and removing the Notice to Airmen (NOTAM) part-time status at Lemoore NAS, Lemoore, CA. Subsequent to publication, the FAA found the legal description was incorrect and is now corrected to eliminate “within a 5.2-mile radius of Lemoore NAS (Reeves Field), and” from the description.

Correction to Final Rule

Accordingly, pursuant to the authority delegated to me, in the Federal Register of September 21, 2017 (82 FR 44060) FR Doc. 2017-20043, Amendment of Class E Airspace; Lemoore NAS (Reeves Field), CA is corrected as follows:

§ 71.1 [Corrected]

Paragraph 6004 Class E Airspace Areas Designated as an Extension to a Class D or Class E Surface Area.

On page 44061, column 2, lines 26-28, the words “That airspace extending upward from the surface within a 5.2-mile radius of Lemoore NAS (Reeves Field), and” are corrected to read “That airspace extending upward from the surface within 1.8 miles each side”.

Issued in Seattle, Washington, on October 25, 2017.
B.G. Chew,
Acting Group Manager, Operations Support Group, Western Service Center.

[FR Doc. 2017-23675 Filed 10-31-17; 8:45 am]

BILLING CODE 4910-13-P